DEPARTMENT OF ENERGY

Quadrennial Energy Review: Notice of Public Meeting

AGENCY: Office of Energy Policy and Systems Analysis, Secretariat, Quadrennial Energy Review Task Force, Department of Energy.

ACTION: Notice of public meeting: Correction.

SUMMARY: The Department of Energy published in the Federal Register on July 1, 2014, a notice of a public meeting to discuss and receive comments on issues related to the Quadrennial Energy Review. The notice is being corrected to change the time of the meeting.

Correction

In the Federal Register of July 1, 2014, in FR DOC. 2014-15388, on page 37302, please make the following correction:

In the DATES heading, first column, third line, remove 9:00 a.m. and in its place add 10:00 a.m.

Issued in Washington, DC, on July 15 2014.
Michele Torrusio,
QER Secretariat, QER Interagency Task Force, U.S. Department of Energy.

[FR Doc. 2014-17054 Filed 7-18-14; 8:45 am]

BILLING CODE 6450-01-P